DEPARTMENT OF THE INTERIOR

Bureau of Land Management

[CO-200-1220-PA]

Notice of Intent To Prepare the Arkansas River Travel Management Plan and Amend the Royal Gorge Resource Management Plan

AGENCY: Bureau of Land Management; Royal Gorge Field Office, Interior.

ACTION: Notice of Intent to prepare the Arkansas River Travel Management Plan and to consider amending the Royal Gorge Resource Management Plan (RMP).

SUMMARY: This document provides notice that the Bureau of Land Management (BLM) intends to initiate a comprehensive planning effort to address Off-Highway Vehicle (OHV) travel and other related road and trail issues for a portion of the Royal Gorge Field Office. The plan, entitled the Arkansas River Travel Management Plan (TMP), will focus specifically on those BLM Public Lands that lie between Canon City and Salida, Colorado, and involves approximately 210,000 acres of Public Lands located in central and western Fremont County and northern Custer County, CO. The TMP will amend the Royal Gorge RMP. The TMP and plan amendment implement decisions made in the Royal Gorge RMP to limit OHV use to designated roads and trails, and to develop local travel management plans with public participation. The amendment process will be used to establish a system of designated roads and trails that meets the needs of the public and protects the cultural and natural resources of the Public Lands. The amendment and associated EA will be prepared pursuant to the BLM planning regulations in 43 CFR part 1600. The plan will fulfill the needs and obligations set forth by the National Environmental Policy Act (NEPA), the Federal Land Policy and Management Act (FLPMA), and BLM management policies. The BLM will work collaboratively with interested parties to identify the management decisions that are best suited to local, regional, and national needs and concerns. The public scoping process will identify planning issues and develop planning criteria. The EA will analyze and compare the impacts of any changes in OHV designation and management with the continuation of current management, and other alternatives that may be identified. The TMP is being prepared through coordination with other federal, state and local agencies, and affected public land users.

DATES: This notice initiates the public scoping process. Comments on issues and concerns can be submitted in writing to the address listed below and will be accepted throughout the creation of the Draft RMP amendment/EA. All public meetings will be announced through the local news media, newsletters, and the BLM Web site at: http://www.co.blm.gov/ccdo/canon.htm, at least 15 days prior to the event. The minutes and list of attendees for each meeting will be available to the public and open for 30 days to any participant who wishes to clarify the views they expressed.

Public Participation: Public meetings will be held during the plan scoping period. Early participation is encouraged and will help determine the future travel management of the public lands involved in this amendment. In addition to the ongoing public participation process, formal opportunities for public participation will be provided through comment upon the publication of the BLM draft RMP amendment, EA, and an unsigned Finding of No Significant Impact (FONSI).

ADDRESSES: Written comments should be sent to Bureau of Land Management, Royal Gorge Field Office, ATTN: Arkansas River TMP, 3170 East Main Street, Canon City, CO 81212; FAX 719-269-8599. Documents pertinent to this proposal may be examined at the Royal Gorge Field Office. Comments, including names and street addresses of respondents, will be available for public review at the Royal Gorge Field Office during regular business hours (8 am to 4:30 pm), Monday through Friday, except holidays, and may be published as part of the EA. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be available for public inspection in their entirety.

FOR FURTHER INFORMATION CONTACT: For further information and/or to have your name added to our mailing list, contact Dave Walker, Team Leader, at the Royal Gorge Field Office address listed above or by calling (719) 269-8545, or e-mail at David_Walker@blm.gov.

SUPPLEMENTARY INFORMATION: The use of roads and trails for motorized and non-motorized recreation activities is an important use of BLM Public Lands. In response to recommendations made by the Front Range Resource Advisory Council, the BLM proposes developing a travel management plan and establishing OHV travel designations to restrict motorized travel to designated roads and trails. Preliminary issues and management concerns have been identified by BLM personnel, other agencies, and in meetings with individuals and user groups. They represent the BLM's knowledge to date on the existing issues and concerns with current management. The preliminary issues include: Impacts to public land users and adjacent private landowners; impacts to wildlife habitat; and impacts to water quality, vegetation, including riparian and wetland areas, and soils. These issues, along with others that may be identified through public participation, will be considered in the planning process. After gathering public comments on what issues the plan amendment should address, the suggested issues will be placed in one of three categories:

1. Issues to be resolved in the plan amendment;

2. Issues resolved through policy or administrative action; or

3. Issues beyond the scope of this plan amendment.

Rationale will be provided in the plan for each issue placed in category two or three. In addition to these major issues, a number of management questions and concerns will be addressed in the plan amendment. The public is encouraged to help identify these questions and concerns during the scoping phase.

An interdisciplinary approach will be used to develop the plan amendment in order to consider the variety of resource issues and concerns identified. Disciplines involved in the planning process will include specialists with expertise in rangeland management, minerals and geology, forestry, outdoor recreation, law enforcement, archaeology, wildlife and fisheries, lands and realty, hydrology, soils, vegetation, and fire.

Notification will be made to the Governor of Colorado, the Fremont and Custer County Commissioners, adjacent landowners, and potentially affected members of the public.

Roy L. Masinton,
Field Manager.

[FR Doc. 03-14448 Filed 6-6-03; 8:45 am]

BILLING CODE 4310-JB-P